DEPARTMENT OF COMMERCE

Foreign-Trade Zones Board

[B-54-2024]

Foreign-Trade Zone (FTZ) 143; Authorization of Production Activity; Robert Bosch Semiconductor LLC; (Silicon Carbide Wafers); Roseville, California

On September 30, 2024, Sacramento-Yolo Port District, grantee of FTZ 143, submitted a notification of proposed production activity to the FTZ Board on behalf of Robert Bosch Semiconductor LLC (Bosch), within FTZ 143, in Roseville, California.

The notification was processed in accordance with the regulations of the FTZ Board (15 CFR part 400), including notice in the Federal Register inviting public comment (89 FR 83835-83836, October 18, 2024). On January 28, 2025, the applicant was notified of the FTZ Board's decision that no further review of the activity is warranted at this time. The production activity described in the notification was authorized, subject to the FTZ Act and the FTZ Board's regulations, including section 400.14.

Dated: January 28, 2025.
Elizabeth Whiteman,
Executive Secretary.

[FR Doc. 2025-02026 Filed 1-30-25; 8:45 am]

BILLING CODE 3510-DS-P